DEPARTMENT OF TRANSPORTATION

Pipeline And Hazardous Materials Safety Administration

[Docket No. PHMSA-2014-0126]

Pipeline Safety: Information Collection Activities

AGENCY: Pipeline and Hazardous Materials Safety Administration.

ACTION: Notice and request for comments.

SUMMARY: On October 20, 2014, in accordance with the Paperwork Reduction Act of 1995, the Pipeline and Hazardous Materials Safety Administration (PHMSA) published a notice in the Federal Register (79 FR 62707) inviting comments on two information collections that will be expiring in 2015. PHMSA requests an extension with no change for the information collection identified by Office of Management and Budget (OMB) control number 2137-0048. In addition, PHMSA proposed a revision to the information collection identified under OMB control number 2137-0600. This revision updates the number of respondents used in the burden calculation but does not add to or change the type of information being collected.

PHMSA received no comments in response to that notice. PHMSA is publishing this notice to provide the public with an additional 30 days to comment on both the renewal and the revision of the information collections referenced above and announce that the Information Collections will be submitted to OMB for approval.

DATES: Interested persons are invited to submit comments on or before February 23, 2015 to be assured of consideration.

FOR FURTHER INFORMATION CONTACT: Cameron Satterthwaite by telephone at 202-366-1319, by email at cameron.satterthwaite@dot.gov, by fax at 202-366-4566, or by mail at U.S. Department of Transportation, PHMSA, 1200 New Jersey Avenue SE., PHP-30, Washington, DC 20590-0001.

ADDRESSES: You may submit comments identified by the docket number PHMSA-2014-0126 by any of the following methods:

• Fax: 1-202-395-5806.

• Mail: Office of Information and Regulatory Affairs, Records Management Center, Room 10102 NEOB, 725 17th Street NW., Washington, DC 20503, ATTN: Desk Officer for the U.S. Department of Transportation\PHMSA.

• Email: Office of Information and Regulatory Affairs, OMB, at the following email address: OIRA_Submission@omb.eop.gov.

Requests for a copy of the Information Collection should be directed to Cameron Satterthwaite by telephone at 202-366-1319, by fax at 202-366-4566, by email at cameron.satterthwaite@dot.gov or by mail at U.S. Department of Transportation, PHMSA, 1200 New Jersey Avenue SE., PHP-30,Washington, DC 20590-0001.

SUPPLEMENTARY INFORMATION: Section 1320.8(d), Title 5, Code of Federal Regulations requires PHMSA to provide interested members of the public and affected agencies an opportunity to comment on information collection and recordkeeping requests. This notice identifies two revised information collection requests that PHMSA will submit to OMB for approval. The information collections are titled: “Recordkeeping Requirements for Liquefied Natural Gas (LNG) Facilities (2137-0048) and “Qualification of Pipeline Safety, Training” (2137-0600).

The following information is provided for each revised information collection: (1) Title of the information collection; (2) OMB control number; (3) Type of request; (4) Abstract of the information collection activity; (5) Description of affected public; (6) Estimate of total annual reporting and recordkeeping burden; and (7) Frequency of collection. PHMSA will request a three-year term of approval for each information collection activity. PHMSA requests an extension with no change for the information collection identified by Office of Management and Budget (OMB) control number 2137-0048. In addition, PHMSA requests a revision to the information collection identified under OMB control number 2137-0600. This revision updates the number of respondents used in the burden calculation but does not add to or change the type of information being collected.

1. Title: Recordkeeping Requirements for Liquefied Natural Gas (LNG) Facilities.

OMB Control Number: 2137-0048.

Current Expiration Date: 02/28/2015.

Type of Request: Renewal with no change of a currently approved information collection.

Abstract: In accordance with Title 49, CFR part 193, LNG facility owners and operators are required to maintain records, make reports and provide information to PHMSA upon request.

Affected Public: Owners and operators of liquefied natural gas facilities.

Annual Reporting and Recordkeeping Burden:

Total Annual Responses: 101.

Total Annual Burden Hours: 12,120.

Frequency of Collection: On occasion.

2. Title: Qualification of Pipeline Safety Training.

OMB Control Number: 2137-0600.

Current Expiration Date: 04/30/2015.

Type of Request: Revision of a currently approved information collection.

Abstract: All individuals responsible for the operation and maintenance of pipeline facilities are required to be properly qualified to safely perform their tasks. Title 49 CFR 192.807 and 195.507 require each operator to maintain records that demonstrate compliance with the mandated qualification criteria. Records must be kept and be provided to PHMSA upon request.

Affected Public: Operators of pipeline facilities.

Annual Reporting and Recordkeeping Burden:

Total Annual Responses: 29,167.

Total Annual Burden Hours: 466,672.

Frequency of Collection: On occasion.

Comments are invited on:

(a) The need for the proposed collection of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Issued in Washington, DC, on January 20, 2015.
John A. Gale,
Director, Standards and Rulemakings.

[FR Doc. 2015-01153 Filed 1-22-15; 8:45 am]

BILLING CODE 4910-60-P